DEPARTMENT OF THE INTERIOR

Bureau of Land Management

[CACA 048811, LLCAD01500, L51010000.LVRWB13B5340.ER0000]

Notice of Availability of the Record of Decision for the Proposed Right-of-Way Amendment for the Blythe Solar Power Project, Riverside County, CA

AGENCY: Bureau of Land Management, Interior.

ACTION: Notice of availability.

SUMMARY: The Bureau of Land Management (BLM) announces the availability of the Record of Decision (ROD) to amend the Right-of-Way (ROW) for the Blythe Solar Power Project (BSPP), Riverside County, California. The Assistant Secretary—Land and Minerals Management, approved the ROD on August 1, 2014, which constitutes the final decision of the Department of the Interior.

ADDRESSES: Copies of the ROD have been sent to affected Federal, State, and local government agencies and to other stakeholders. Copies of the ROD are available for public inspection at the Palm Springs/South Coast Field Office, 1201 Bird Center Drive, Palm Springs, CA 92262, and the California Desert District Office, 22835 Calle San Juan de Los Lagos, Moreno Valley, CA 92553-9046. Interested persons may also review the ROD on the Internet at: http://www.blm.gov/ca/st/en/fo/palmsprings/solar_projects/Blythe_Solar_Power_Project.html.

FOR FURTHER INFORMATION CONTACT: Frank McMenimen, BLM Project Manager, telephone 760-833-7150; address: 1201 Bird Center Drive, Palm Springs, CA 92262; email: capssolarblythe@blm.gov. Persons who use a telecommunications device for the deaf (TDD) may call the Federal Information Relay Service (FIRS) at 1-800-877-8339 to contact the above individual during normal business hours. The FIRS is available 24 hours a day, 7 days a week to leave a message or question with the above individual. You will receive a reply during normal business hours.

SUPPLEMENTARY INFORMATION: NextEra Blythe Solar Energy Center, LLC (Grant Holder) requested a variance from the existing approval to amend the ROW grant to convert the BSPP's generation technology and to reduce the project footprint. The project site is located 8 miles west of Blythe and 3 miles north of Interstate 10. The BSPP was permitted and approved in 2010 as a 1,000-megawatt (MW) solar thermal generating plant. The Grant Holder purchased the fully permitted (un-built) project assets in mid-2012 and now proposes to modify the technology to solar photovoltaic (PV) and reduce the size of the project from 6,831 acres to 4,138 acres entirely within the approved BSPP footprint. On August 22, 2012, the BLM approved the assignment of the ROW Grant from the prior holder, Palo Verde Solar I, LLC, to the Grant Holder. In anticipation of the Modified Project, the Grant Holder voluntarily relinquished approximately 35 percent of the previously approved ROW grant area on March 7, 2013.

The Selected Alternative consists of the proposed 485 MW PV solar plant on 4,138 acres of BLM-administered public land, referred to in the ROD as the Modified Project, with authorization for constructing and operating a range of panel types and tracking options so that the Modified Project can take advantage of the rapid improvements in PV technology/efficiency that are anticipated to take place between early permitting and commencing construction. The Modified Project reduces project impacts from the 2010 Approved Project by reducing the project footprint and avoiding bighorn sheep habitat and most of the microphyll woodlands impacted by the 2010 Approved Project. For other impacts, the BLM has included mitigation and monitoring requirements in the ROD. In addition to mitigation and monitoring measures applied to all large ground disturbance projects on BLM-managed land, the following are several of the key mitigation measures included in the ROD:

• Desert Tortoise Translocation Plan and measures to avoid take of desert tortoise;

• Burrowing Owl Mitigation and Monitoring Plan;

• American badger and desert kit fox avoidance and minimization measures;

• Compensatory mitigation for Mojave fringe-toed lizard habitat losses;

• Avian, bat, and golden eagle protection measures;

• Programmatic Agreement with the State Historic Preservation Office to avoid, minimize, and mitigate adverse effects to historic properties, including a Historic Properties Treatment Plan; and

• Measures to integrate visual design elements into project design, building, and structural materials.

A Notice of Availability of the Final EIS for the BSPP published in the Federal Register on May 30, 2014 (79 FR 31133). The BLM received four comment letters following the publication of the Final EIS. The BLM's consideration of these letters did not result in changes in the design, location, or timing of the project in a way that would cause significant effects to the human environment outside of the range of effects analyzed in the Final EIS. Similarly, none of the letters identified new significant circumstances or information relevant to environmental concerns that bear on the project and its effects.

The project site is in the California Desert District within the planning boundary of the California Desert Conservation Area (CDCA) Plan, which is the applicable resource management plan for the project site and surrounding areas. The 2010 ROD for the Approved Project also amended the CDCA Plan to allow for the development of the BSPP and ancillary facilities on land managed by the BLM. This Plan Amendment is unaffected by the changes contemplated by the Modified Project since it is entirely within the footprint for the Approved Project. Therefore, the Modified Project does not require a separate CDCA Plan amendment.

Because this decision is approved by the Assistant Secretary—Land and Minerals Management, it is not subject to administrative appeal (43 CFR 4.410(a)(3)).

Authority: 40 CFR 1506.6.

Neil Kornze,
Director, Bureau of Land Management.

[FR Doc. 2014-18973 Filed 8-8-14; 8:45 am]

BILLING CODE 4310-40-P